DEPARTMENT OF AGRICULTURE

Forest Service

Clearwater National Forest; Idaho; Travel Management Plan

AGENCY: Forest Service, USDA.

ACTION: Revised notice; intent to prepare an environmental impact statement. The original notice was published in the Federal Register/Vol. 72, No. 228, November 28, 2007/Notices, pages 67268-67270.

SUMMARY: On November 28, 2007, the USDA Forest Service announced its intent to prepare a travel planning environmental impact statement (EIS). The proposed action would designate a site-specific transportation system and prohibit indiscriminate cross-country traffic. The EIS will analyze the effects of the proposed action and alternatives. This Revised Notice is being published because the due date for scoping comments has been extended to January 11, 2008. The Clearwater National Forest invites comments and suggestions on the issues to be addressed. The agency gives notice of the National Environmental Policy Act (NEPA) analysis and decision-making process on the proposal so interested and affected members of the public may participate and contribute to the final decision.

DATES: Comments concerning the scope of the analysis must be received by January 11, 2008. A 45-day public comment period will follow the release of the draft environmental impact statement that is expected in June 2008. The final environmental impact statement is expected in January 2009.

ADDRESSES: Send written or electronic comments to: Lochsa Ranger District, Kamiah Ranger Station; Attn: Lois Foster, Interdisciplinary Team Leader; Rt. 2 Box 191; Kamiah, ID 83536; FAX 208-935-4275; E-mail comments-northern-clearwater@fs.fed.us.

FOR FURTHER INFORMATION CONTACT: Lois Foster, Interdisciplinary Team leader, (208) 935-4258.

SUPPLEMENTARY INFORMATION: Purpose and Need for Action is to (1) Implement national OHV Rule direction, (2) Limit indiscriminate cross-country motorized travel, (3) Designate selected roads and trails for motorized travel, (4) Designate appropriate areas or routes for travel with oversnow vehicles, (5) Balance travel opportunities with maintenance and management capability including costs, (6) Provide for a better spectrum of motorized, non-motorized, and non-mechanized travel opportunities across the CNF in recognition of the need to retain the character of lands recommended for Wilderness designation and the CNF's ability to provide for non-motorized recreation opportunities that are not available on other land ownerships, (7) Manage impacts to Forest resources, (8) Improve clarity and consistency of existing travel restrictions, and (9) amend the 1987 Forest Plan as necessary to accomplish the actions described above.

The need for revision of the Forest Plan is supported by nationwide awareness within the Forest Service of the negative effects of indiscriminate off-road travel by motorized users. These concerns led to publication of the Travel Management final rule on November 9, 2005 in the Federal Register, 36 CFR Parts 212, 251, 261, 295 “Travel Management: Designated Routes and Areas for Motor Vehicle Use” (Federal Register 2005: 79FR68264). The rule requires each National Forest to designate those roads, trails, and areas that are open to motor vehicle use. The rule prohibits use of motor vehicles off the designated system, as well as use of motor vehicles on routes and in areas that are not consistent with the designation. The rule does not require that over-snow vehicles, such as snowmobiles, are limited to a designated system by exempting them under 121.51, but also states in 212.81 that “use by over-snow vehicles...on National Forest System lands may be allowed, restricted, or prohibited.” The CNF chose to include over-snow vehicles in the analysis.

The Proposed Action would designate motorized road and trail routes for summer travel on the Clearwater National Forest. Existing Conditions include roads and trails identified as open to motorized travel in the 2005 Travel Guide, plus any error corrections or project-level NEPA decisions made since then. The Proposed Action would include any changes from existing conditions, such as road to trail conversions, designating some roads previously not thought to be travelable, and not designating some roads that were previously thought to be travelable.

The transportation system for snow-free travel would include:

• 1,623 miles of open yearlong to all highway-legal vehicles (an increase of 8 miles compared to existing conditions);

• 509 miles of roads open yearlong to small vehicles such as ATV's and motorcycles, but not including UTV's (an increase of 9 miles);

• 633 miles of roads open seasonally to all highway-legal vehicles (a decrease of 13 miles);

• 151 miles of roads open seasonally to small vehicles (a decrease of 1 mile);

• 93 miles of trails open yearlong to small vehicles (a change of 0 miles);

• 226 miles of trails open yearlong to motorcycles (a decrease of 178 miles);

• 75 miles of trails open seasonally to small vehicles (an increase of 2 miles); and

• 93 miles of trails open seasonally to motorcycles (a change of 0 miles).

The proposed action would also modify the dates of seasonal restrictions for roads and trails to reduce the variety of restricted periods, and ultimately improve the clarity of the Motor Vehicle Use Map (MVUM). Motorized travel up to 300 feet off of designated routes to access established campsites would be permitted in most areas. In certain areas, off-route travel would be permitted only to access specifically designated campsites.

Existing restrictions for bicycles on all but one road would be eliminated. Bicycle restrictions on roads would drop from a total of 10 miles currently to only 1 mile, which would be entirely within the CNF seed orchard. Areas recommended for wilderness by the Forest Plan would become off limits to bicycles. System trails available to bicycles would drop from 811 miles to 730 miles (a reduction of 81 miles).

Over-snow vehicle use would be restricted in areas recommended for wilderness by the Forest Plan. Within the areas where over-snow vehicle use would generally be permitted, there would continue to be some specific routes where over-snow vehicles would be restricted. Over-snow vehicle use would be prohibited forest-wide from October 1 to November 4. The transportation system for over-snow vehicles would include:

• 364 miles of groomed snowmobile routes (no change from existing conditions);

• 1,322,943 acres generally open to over-snow vehicles except for certain restricted routes;

• 3,484 miles of roads where over-snow vehicles would be permitted from November 5 until snowmelt in the spring, compared to 3,174 acres available currently (an increase of 310 acres); and

• 503,057 acres closed to over-snow vehicles, compared to 302,856 acres available currently (a decrease of 200,201 acres).

The numbers above are only approximate at this time.

The existing Forest Plan will be amended. When the Forest Plan was completed in 1987, trail vehicles were few and travel planning was focused almost completely on roads and highway vehicles. Motorized use has increase dramatically since then, and modern vehicles such as snowmobiles, ATV's, and motorcycles have capabilities that could not have been envisioned in 1987. The Forest Plan also contains some conflicting information regarding the intent for management of certain areas. Changes may include:

• Better coordination between the level of motorized travel and the focus of certain management areas, primarily those in roadless areas;

• Additions or changes to Forest Plan standards to permit implementation of the national Travel Management rule; and

• Other goals, objectives, and standards affecting travel management.

Possible Alternatives the Forest Service will consider include a no-action alternative, which will serve as a baseline for comparison of alternatives. The proposed action will be considered along with additional alternatives that will be developed to meet the purpose and need for action, and to address significant issues identified during scoping.

The Responsible Official is Thomas K. Reilly, Clearwater Forest Supervisor, Clearwater National Forest, 12730 Highway 12, Orofino, ID 83544.

The Decision To Be Made is whether to adopt the proposed action, in whole or in part, or another alternative; and what mitigation measures and management requirements will be implemented.

The Scoping Process for the EIS is being initiated with this notice. The scoping process will identify issues to be analyzed in detail and will lead to the development of alternatives to the proposal. The Forest Services is seeking information and comments from other Federal, State, and local agencies; Tribal governments; and organizations and individuals who may be interested in or affected by the proposed action. Comments received in response to this notice, including the names and addresses of those who comment, will be part of the project record and available for public review. Public meetings will be scheduled during the scoping period. Times, dates and locations for the public meetings will be published in the Lewiston, Idaho Lewiston Morning Tribune.

Early Notice of Importance of Public Participation in Subsequent Environmental Review: A draft environmental impact statement will be prepared for comment. The second major opportunity for public input will be when the Draft EIS is published. The comment period on the draft environmental impact statement will be 45 days from the date the Environmental Protection Agency publishes the notice of availability in the Federal Register. The Draft EIS is anticipated to be available for public review in June 2008. The comment period on the Draft EIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages Inc. v. Harris, 490 F. Supp. 1334, 1338 (E.D. Wis. 1980)). Because of these court rulings, it is very important that those interested in this proposed action participate by the close of the comment period for the Draft EIS so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the comment period for the Draft EIS ends, the Forest Service will analyze comments received and address them in the Final EIS. The Final EIS is scheduled to be released by January 2009. The Responsible Official (Forest Supervisor Thomas K. Reilly) will document the decision and rationale in a Record of Decision (ROD). The decision will be subject to review under Forest Service appeal regulations at 36 CFR Part 215.

Preliminary Issues identified by the Forest Service interdisciplinary team include: changing motorized and non-motorized recreation opportunities, costs of road and trail management and maintenance, soil issues, effects on aquatic environments and species, effects on wildlife, the spread of noxious weeds, changes in motorized access to roads, trails and areas that are not designated as part of the travel planning analysis, and motorized access for people with disabilities.

(Authority: 40 CFR 1501.7 and 1508.22; Forest Service Handbook 1909.15, Section 21)

Dated: December 6, 2007.
Thomas K. Reilly,
Clearwater Forest Supervisor.

[FR Doc. 07-6074 Filed 12-18-07; 8:45 am]

BILLING CODE 3410-11-M